DEPARTMENT OF HOMELAND SECURITY

Federal Emergency Management Agency

44 CFR Part 67

[Docket No. FEMA-D-7564]

Proposed Flood Elevation Determinations

AGENCY: Federal Emergency Management Agency (FEMA), Emergency Preparedness and Response Directorate, Department of Homeland Security.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. * Elevation in feet (NGVD) • Elevation in feet (NAVD): Existing | # Depth in feet above ground. * Elevation in feet (NGVD) • Elevation in feet (NAVD): Modified
Illinois | Albers (Village), Clinton County | Grassy Branch | Upstream side of County Road 8 | None | * 421
|  |  | Approximately 0.64 mile upstream of County Road 800 | None | * 421
|  | Sugar Creek | Approximately 200 feet upstream of Southern Railway | None | * 422
|  |  | Approximately 1,550 feet upstream of State Route 161 | None | * 425
Maps available for inspection at the Albers Village Hall, 206 West Dwight, Albers, Illinois.
Send comments to The Honorable Rick Casson, Mayor of the Village of Albers, P.O. Box 132, Albers, Illinois 62215.
Illinois | Carlyle (City), Clinton County | Carlyle Lake | Approximately 0.7 mile northeast of the intersection of 12th Street and Eula Mae Parkway | None | * 463
Maps available for inspection at the Carlyle City Hall, 850 Franklin Street, Carlyle, Illinois.
Send comments to The Honorable Don Schmitz, Mayor of the City of Carlyle, 850 Franklin Street, Carlyle, Illinois 62231.
Illinois | Clinton County (Unincorporated Areas) | Grassy Branch | At confluence with Sugar Creek | None | * 421
|  |  | Approximately 0.91 mile upstream of County Road 800 | None | * 422
|  | Kaskaskia River | At downstream county boundary | None | * 402
|  |  | Approximately 5.45 miles upstream of confluence of Shoal Creek | None | * 413
|  | Shoal Creek | At confluence with Kaskaskia River | None | * 411
|  |  | Approximately 0.5 mile upstream of Southern Railway bridge | None | * 423
|  | Sugar Creek | At confluence with Kaskaskia River | None | * 409
|  |  | Approximately 0.3 mile upstream of State Route 161 | None | * 425
|  | Lake Branch | At Alberson Road | None | * 428
|  |  | Approximately 1.2 miles upstream of Wayne Road | None | * 500
|  | Carlyle Lake | Entire shoreline | None | * 463
Maps available for inspection at the Clinton County Courthouse, 850 Fairfax, Carlyle, Illinois.
Send comments to Mr. Ronald C. Mitchell, Clinton County Engineer, P.O. Box 188, Carlyle, Illinois 62231.
Illinois | Damiansville (Village), Clinton County | Sugar Creek | Upstream side of Interstate Route 64 | None | * 417
|  |  | Approximately 4,000 feet upstream of Interstate Route 64 | None | * 419
Maps available for inspection at the Damiansville Village Hall, 225 East Main, Damiansville, Illinois.
Send comments to Mr. Herman Jansen, Jr., Damiansville Village President, 225 East Main, Damiansville, Illinois 62215.
Illinois | Germantown (Village), Clinton County | Shoal Creek | Approximately 0.02 mile downstream of State Route 161 | None | * 420
|  |  | At Southern Railway | None | * 422
Maps available for inspection at the Germantown Village Hall, 306 Prairie, Germantown, Illinois.
Send comments to The Honorable Gerald Kohnen, Mayor of the Village of Germantown, P.O. Box 310, Germantown, Illinois 62245.
Tennessee | Bristol (City), Sullivan County | Beaver Creek | Approximately 70 feet downstream of State Route 37 | • 1,435 | • 1,436
|  |  | Approximately 25 feet downstream of Moore Street | • 1,675 | • 1,674
|  | Back Creek | At the confluence with Beaver Creek | • 1,448 | • 1,450
|  |  | Approximately 0.28 mile upstream of Sperry Road | • 1,448 | • 1,450
|  | Cedar Creek | At the confluence with Beaver Creek | • 1,457 | • 1,458
|  |  | Approximately 0.24 mile downstream of Cedar Creek Road | • 1,457 | • 1,458
|  | Whitetop Creek | At the confluence with Beaver Creek | • 1,446 | • 1,448
|  |  | Approximately 1.15 miles upstream of the confluence with Beaver Creek | • 1,447 | • 1,448
Maps available for inspection at the City of Bristol Department of Development Services, Easley Annex Building, 104 8th Street, Bristol, Tennessee.
Send comments to Mr. Anthony Massey, Bristol City Manager, P.O. Box 1189, Bristol, Tennessee 37621-1189.
Virginia | Bristol (City), Independent City | Beaver Creek | Approximately 0.05 mile upstream of the State boundary | • 1,673 | • 1,672
|  |  | Approximately 0.4 mile upstream of Forsythe Road | None | • 1,813
|  | Susong Branch | Just upstream of the first crossing of Bob Morrison Boulevard | • 1,673 | • 1,672
|  |  | Approximately 170 feet upstream of Euclid Avenue | • 1,684 | • 1,683
|  | Little Creek | Just downstream of State Street | • 1,670 | • 1,672
|  |  | Approximately 0.76 mile upstream of the 2nd crossing of Commonwealth Avenue | • 1,721 | • 1,722
|  | Mumpower Creek | Approximately 0.107 mile upstream of the confluence with Beaver Creek | • 1,689 | • 1,688
|  |  | Approximately 0.035 mile upstream of East Valley Drive | • 1,734 | • 1,733
Maps available for inspection at the Bristol City Engineer's Office, 41 Piedmont, Bristol, Virginia.
Send comments to Mr. Paul Spangler, Bristol City Manager, 497 Cumberland Street, Bristol, Virginia 24201.
West Virginia | Reedy (Town), Roane County | Reedy Creek | Approximately 650 feet downstream of State Route 14 | * 678 | * 679
|  |  | Approximately 170 feet downstream of the confluence of Left Fork Reedy Creek | * 679 | * 680
|  | Left Fork Reedy Creek | At the confluence with Reedy Creek | * 679 | * 681
|  |  | Approximately 1,600 feet upstream of confluence with Reedy Creek | * 679 | * 681
|  | Right Fork Reedy Creek | At confluence with Reedy Creek | * 679 | * 680
|  |  | At upstream corporate limits | * 679 | * 680
Maps available for inspection at Reedy Town Water Office, 118 Main Street, Reedy, West Virginia.
Send comments to The Honorable Sam Salvucci, Mayor of the Town of Reedy, 54 Locust Street, Reedy, West Virginia 25270.
West Virginia | White Sulphur Springs (City), Greenbrier County | Howard Creek | Approximately 850 feet downstream of Greenbrier Avenue | * 1,840 | * 1,839
|  |  | At upstream corporate limits | None | * 1,887
|  | Dry Creek | At the confluence with Howard Creek | * 1,850 | * 1,848
|  |  | Approximately 0.45 mile upstream of Interstate Route 64 | * 1,885 | * 1,883
Maps available for inspection at the White Sulphur Springs City Hall, 34 West Main Street, White Sulphur Springs, West Virginia.
Send comments to The Honorable Debra Fogus, Mayor of the City of White Sulphur Springs, City Hall, 34 West Main Street, White Sulphur Springs, West Virginia 24986.

(Catalog of Federal Domestic Assistance No. 83.100, “Flood Insurance.”)
Dated: May 21, 2003.
Anthony S. Lowe,
Mitigation Division Director, Emergency Preparedness and Response Directorate.

[FR Doc. 03-13640 Filed 5-30-03; 8:45 am]

BILLING CODE 6718-04-P